FEDERAL COMMUNICATIONS COMMISSION

47 CFR Part 73

[DA 02-2929; MM Docket No. 01-155 RM-10176]

Radio Broadcasting Services; Goliad, TX

AGENCY: Federal Communications Commission.

ACTION: Final rule.

SUMMARY: In this document, the Commission allots Channel 282A at Goliad, Texas, as the community's second FM transmission service. See 66 FR 39128 (July 27, 2001). Channel 282A is allotted at Goliad, Texas, with a site restriction of 4.6 kilometers (2.9 miles) north of the community. Since this proposal is within 320 kilometers (199 miles) of the U.S.-Mexico border, concurrence of the Mexican government to the proposed allotment has been received. Coordinates for Channel 282A at Goliad are 28-42-35 NL and 97-23-02 WL.

DATES: Effective December 23, 2002.

FOR FURTHER INFORMATION CONTACT: Victoria M. McCauley, Media Bureau, (202) 418-2180.

SUPPLEMENTARY INFORMATION: This is a synopsis of the Commission's Report and Order, MM Docket No. 01-155, adopted October 23, 2002, and released November 8, 2002. The full text of this Commission decision is available for inspection and copying during normal business hours in the FCC Reference Center (Room 239), 445 12th Street, SW, Washington, DC. This document may also be purchased from the Commission's duplicating contractor, Qualex International, Portals II, 445 12th Street, SW, Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

2. Section 73.202(b), the Table of FM Allotments under Texas, is amended by adding Channel 282A at Goliad.

Federal Communications Commission.
John A. Karousos,
Assistant Chief, Audio Division, Media Bureau.

[FR Doc. 02-30507 Filed 12-2-02; 8:45 am]

BILLING CODE 6712-01-P